ADMINISTRATIVE CONFERENCE OF THE UNITED STATES

[OMB Control Number: 3002-0003]

Information Collection Request Submitted to Office of Management and Budget (Renewal)

AGENCY: Administrative Conference of the United States.

ACTION: Thirty-day notice requesting comments.

SUMMARY: Pursuant to the Paperwork Reduction Act of 1995, the Administrative Conference of the United States will submit an Information Collection Request (ICR) to the Office of Management and Budget (OMB) requesting renewal of an existing and previously approved ICR (No. 3002-0003), substitute “Confidential Employment and Financial Disclosure Report.” This form is a simplified substitute for the Office of Government Ethics (OGE) Form 450, which non-government members of the Conference would otherwise be required to file. OGE has approved the use of this substitute form. The current OMB approval expires on May 31, 2014. The changes proposed to the current form are minor in nature. This proposed ICR renewal was published in the Federal Register at 79 FR 12143 (March 4, 2014), allowing for a 60-day comment period. No comments were received. The purpose of this notice is to allow an additional 30 days for public comment.

DATES: Comments must be received by June 9, 2014.

ADDRESSES: Interested persons may submit written comments on the proposed information collection to the Office of Information and Regulatory Affairs, Office of Management and Budget. Comments should be addressed to the attention of the Desk Officer, Administrative Conference of the United States, and sent via electronic mail to oira_submission@omb.eop.gov, or faxed to 202-395-5806, or mailed to the Office of Information and Regulatory Affairs, Office of Management and Budget, New Executive Office Building, 725 17th Street NW., Washington, DC 20503.

FOR FURTHER INFORMATION CONTACT: Shawne McGibbon, General Counsel, Administrative Conference of the United States, Suite 706 South, 1120 20th Street NW., Washington, DC 20036; Telephone 202-480-2080, Email: smcgibbon@acus.gov.

SUPPLEMENTARY INFORMATION: Pursuant to the Paperwork Reduction Act of 1995, the Administrative Conference of the United States (ACUS) will submit an Information Collection Request (ICR) to the Office of Management and Budget (OMB) requesting renewal of an existing and previously approved ICR (No. 3002-0003), substitute “Confidential Employment and Financial Disclosure Report.” This proposed ICR renewal was published in the Federal Register at 79 FR 12143 (March 4, 2014), allowing for a 60-day comment period. No comments were received. The purpose of this notice is to allow an additional 30 days for public comment.

ACUS is charged with developing recommendations for the improvement of Federal administrative procedures (5 U.S.C. 591). Its recommendations are the product of a research process overseen by a small staff, but ultimately adopted by a membership of 101 experts, including approximately 45 non-government members—5 Council members and up to 40 others (5 U.S.C. 593(b) and 5 U.S.C. 595(b)). These individuals are deemed to be “special government employees” within the meaning of 18 U.S.C. 202(a) and, therefore, are subject to confidential financial disclosure requirements of the Ethics in Government Act (5 U.S.C. App. 107) and regulations of the Office of Government Ethics (OGE). The ACUS substitute “Confidential Employment and Financial Disclosure Report” submitted (“Substitute Disclosure Form”) is a shorter substitute for OGE Form 450, which ACUS non-government members would otherwise be required to file.

In addition to the non-government members of the Conference, the Chairman, with the approval of the Council established under 5 U.S.C. 595(b), may appoint additional persons in various categories, for participation in Conference activities, but without voting privileges. These categories include senior fellows, special counsels, and liaison representatives from other government entities or professional associations. The estimated maximum number of such individuals that may also be required to submit the Substitute Disclosure Form at any particular time is 45.

Prior to the termination of funding for ACUS in 1995, the agency was authorized to use for this purpose a simplified form that was a substitute for OGE Form 450. The simplified substitute form was approved by OGE following a determination by the ACUS Chairman, pursuant to 5 CFR 2634.905(a), that greater disclosure is not required because the limited nature of the agency's authority makes very remote the possibility that a real or apparent conflict of interest will occur. ACUS received OMB approval for the simplified substitute form in 1994.

ACUS was re-established in 2010. On June 10, 2010, OGE renewed its approval for this simplified substitute form, which ACUS must provide to its non-government members in advance of membership meetings. In 2011, ACUS received approval from OMB for use of this form for a 3-year period through May 31, 2014. ACUS is now requesting approval by OMB for a renewal period of three years. The changes proposed to the current form are minor in nature.

Subsequent to OMB's approval of the ICR in 2011, OGE clarified its opinion and stated that the forms need only be completed by the various types of ACUS non-government members prior to each plenary session they attend, but not prior to committee meetings they attend. This will greatly reduce the number of times individuals will have to complete the form.

As required by the Ethics in Government Act, 5 U.S.C. App. 107(a); Executive Order 12674, sec. 201(d); and OGE regulations, 5 CFR 2634.901(d), copies of the substitute form submitted to ACUS by its members are confidential and may not be released to the public.

The proposed substitute “Confidential Employment and Financial Disclosure Report” and the Supporting Statement submitted to OMB may be viewed at: http://www.reginfo.gov/public/do/PRAMain. To view these documents, select “Administrative Conference of the United States” under “Currently Under Review”; click on the ICR Reference Number; then click on either “View Information Collection (IC) List” or “View Supporting Statement and Other Documents.” To see the corresponding documents for the currently approved version, select “Administrative Conference of the United States” under “Current Inventory.”

The total annual burden on respondents for the renewal period is estimated to be less than the 2011 estimate because the number of times the form has to be completed by each respondent has been greatly reduced. ACUS estimates a total burden of 45 hours (down from 135 hours in 2011), based on estimates of 90 persons submitting the form an average of 2 times per year, requiring no more than 15 minutes per response.

Interested persons are invited to submit comments regarding this burden estimate or any other aspect of this information collection, including its necessity, utility and clarity for the proper performance of the Conference's functions.

Dated: May 5, 2014.
Shawne C. McGibbon,
General Counsel.

[FR Doc. 2014-10592 Filed 5-7-14; 8:45 am]

BILLING CODE 6110-01-P